SMALL BUSINESS ADMINISTRATION

[Declaration of Disaster #3533]

State of Tennessee (Amendment #1)

In accordance with the notice received from the Department of Homeland Security—Federal Emergency Management Agency, effective August 6, 2003, the above numbered declaration is hereby amended to include Fayette County as a disaster area due to damages caused by severe storms, high winds and heavy rain occurring on July 21 through July 22, 2003.

In addition, applications for economic injury loans from small businesses located in the contiguous counties of Haywood and Hardeman in the State of Tennessee; and Benton County in the State of Mississippi may be filed until the specified date at the previously designated location. All other counties contiguous to the above named primary counties have been previously declared.

All other information remains the same, i.e., the deadline for filing applications for physical damage is September 29, 2003, and for economic injury the deadline is April 29, 2004.

(Catalog of Federal Domestic Assistance Program Nos. 59002 and 59008).
Dated: August 7, 2003.
Cheri L. Cannon,
Acting Associate Administrator for Disaster Assistance.

[FR Doc. 03-21289 Filed 8-19-03; 8:45 am]

BILLING CODE 8025-01-P